DEPARTMENT OF HOMELAND SECURITY

U.S. Customs and Border Protection

[1651-0052]

User Fees (CBP Form 339A, 339C and 339V)

AGENCY: U.S. Customs and Border Protection (CBP), Department of Homeland Security.

ACTION: 30-Day notice and request for comments; extension of an existing collection of information.

SUMMARY: The Department of Homeland Security, U.S. Customs and Border Protection will be submitting the following information collection request to the Office of Management and Budget (OMB) for review and approval in accordance with the Paperwork Reduction Act of 1995 (PRA). The information collection is published in the Federal Register to obtain comments from the public and affected agencies.

DATES: Comments are encouraged and must be submitted (no later than November 28, 2022) to be assured of consideration.

ADDRESSES: Written comments and/or suggestions regarding the item(s) contained in this notice should be sent within 30 days of publication of this notice to www.reginfo.gov/public/do/PRAMain. Find this particular information collection by selecting “Currently under 30-day Review—Open for Public Comments” or by using the search function.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This proposed information collection was previously published in the Federal Register (87 FR 39105) on June 30, 2022, allowing for a 60-day comment period. This notice allows for an additional 30 days for public comments. This process is conducted in accordance with 5 CFR 1320.8. Written comments and suggestions from the public and affected agencies should address one or more of the following four points: (1) whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: User Fees.

OMB Number: 1651-0052.

Form Number: CBP Form 339A, 339C and 339V.

Current Actions: This submission is being made to extend the expiration date with a change to the annual burden hours previously reported. There is no change to the information collected.

Type of Review: Extension (with change).

Affected Public: Carriers.

Abstract: The Consolidated Omnibus Budget Reconciliation Act of 1985 (COBRA) (Pub. L. 99-272, 100 Stat. 82; 19 U.S.C. 58c), as amended, authorizes the collection of user fees by U.S. Customs and Border Protection (CBP). The collection of these fees requires submission of information from the party remitting the fees to CBP. This collection of information is provided for by 19 CFR 24.22. In certain cases, this information is submitted on one of three forms including the CBP Form 339A for payment upon arrival or prepayment of the annual user fee for a private aircraft (19 CFR 24.22(e)(1) and (2)), CBP Form 339C for prepayment of the annual user fee for a commercial vehicle (19 CFR 24.22(c)(3)), and CBP Form 339V for payment upon arrival or prepayment of the annual user fee for a private vessel (19 CFR 24.22(e)(1) and (2)). All forms can be accessed at: https://www.cbp.gov/newsroom/publications/forms?title_1=339.

The information on these forms may also be filed electronically at: https://dtops.cbp.dhs.gov/.

Similarly, as authorized by the COBRA, as amended, CBP collects fees from each carrier or operator using an express consignment carrier facility (ECCF) or a centralized hub facility as provided in 19 CFR 24.23(b)(4). The payment must be made to CBP on a quarterly basis and must cover the individual fees for all subject transactions that occurred during a calendar quarter. 19 CFR 24.23(b)(4)(i). The information set forth in 19 CFR 24.23(b)(4)(iii)(B) must be included with the quarterly payment (ECCF Quarterly Report). In cases of overpayments, carriers or operators using an ECCF or a centralized hub facility may send a request to CBP for a refund in accordance with 19 CFR 24.23(b)(4)(iii)(C). This request must specify the grounds for the refund.

In addition, CBP requires a prospective ECCF to include a list of all carriers or operators intending to use the facility, as well as other information requested in the application for approval of the ECCF in accordance with 19 CFR 128.11(b)(2). ECCFs are also required to provide to CBP at the beginning of each calendar quarter, a list of all carriers or operators currently using the facility and notify CBP whenever a new carrier or operator begins to use the facility or whenever a carrier or operator ceases to use the facility in accordance with 19 CFR 128.11(b)(7)(iv).

Type of Information Collection: Form 339A.

Estimated Number of Respondents: 35,000.

Estimated Number of Annual Responses per Respondent: 1.

Estimated Number of Total Annual Responses: 35,000.

Estimated Time per Response: 16 minutes.

Estimated Total Annual Burden Hours: 9,333.

Type of Information Collection: Form 339C Vehicles.

Estimated Number of Respondents: 80,000.

Estimated Number of Annual Responses per Respondent: 1.

Estimated Number of Total Annual Responses: 80,000.

Estimated Time per Response: 20 minutes.

Estimated Total Annual Burden Hours: 26,667.

Type of Information Collection: Form 339V.

Estimated Number of Respondents: 16,000.

Estimated Number of Annual Responses per Respondent: 1.

Estimated Number of Total Annual Responses: 16,000.

Estimated Time per Response: 16 minutes.

Estimated Total Annual Burden Hours: 4,267.

Type of Information Collection: ECCF Quarterly Report.

Estimated Number of Respondents: 18.

Estimated Number of Annual Responses per Respondent: 4.

Estimated Number of Total Annual Responses: 72.

Estimated Time per Response: 2 hours.

Estimated Total Annual Burden Hours: 144.

Type of Information Collection: ECCF Application and List of Couriers.

Estimated Number of Respondents: 3.

Estimated Number of Annual Responses per Respondent: 4.

Estimated Number of Total Annual Responses: 12.

Estimated Time per Response: 30 minutes.

Estimated Total Annual Burden Hours: 6.

Type of Information Collection: ECCF Refund Request.

Estimated Number of Respondents: 0.

Estimated Number of Annual Responses per Respondent: 0.

Estimated Number of Total Annual Responses: 0.

Estimated Time per Response: 30 minutes.

Estimated Total Annual Burden Hours: 0.

Dated: October 24, 2022.
Seth D. Renkema,
Branch Chief, Economic Impact Analysis Branch, U.S. Customs and Border Protection.

[FR Doc. 2022-23405 Filed 10-26-22; 8:45 am]

BILLING CODE P